ENVIRONMENTAL PROTECTION AGENCY

[EPA-HQ-OPPT-2016-0713; FRL-9966-11]

Nominations to the Augmented Science Advisory Committee on Chemicals (SACC); Extension of Comment Period

AGENCY: Environmental Protection Agency (EPA).

ACTION: Notice; extension of comment period.

SUMMARY: The U.S. Environmental Protection Agency published a notice with the names and affiliations of additional candidates for consideration for the Science Advisory Committee on Chemicals (SACC) on August 3, 2017. Public comments were requested to be received by the Docket Identification Number: EPA-HQ-OPPT-2016-0713. This document extends the public comment period from September 5, 2017 to September 17, 2017.

DATES: Comments must be received on or before September 17, 2017.

ADDRESSES: Follow the detailed instructions provided under ADDRESSES in the Federal Register document of August 3, 2017 (82 FR 36132) (FRL-9965-53).

FOR FURTHER INFORMATION CONTACT: Tamue Gibson, M.S., Designated Federal Officer (DFO), Office of Science Coordination and Policy (7201M), Environmental Protection Agency, 1200 Pennsylvania Ave. NW., Washington, DC 20460-0001; telephone number: (202) 564-7642; email address: gibson.tamue@epa.gov.

SUPPLEMENTARY INFORMATION: This document extends the public comment period established in the Federal Register document of August 3, 2017 (82 FR 36132) (FRL-9965-53). In that document, of the names and affiliations of additional candidates for membership to the SACC with a request for public comments by September 5, 2017. This document extends the public comment due date to September 17, 2017.

To submit comments, or access the docket, please follow the detailed instructions provided under ADDRESSES in the Federal Register document of August 3, 2017. If you have any questions, consult the DFO listed under FOR FURTHER INFORMATION CONTACT.

Authority: 15 U.S.C. 2625 et. seq.; 5 U.S.C. Appendix 2 et. seq.

Dated: August 17, 2017.
Wendy Cleland-Hamnett,
Acting Assistant Administrator, Office of Chemical Safety and Pollution Prevention.

[FR Doc. 2017-18778 Filed 9-5-17; 8:45 am]

BILLING CODE 6560-50-P